ENVIRONMENTAL PROTECTION AGENCY

[FRL-9903-65-Region-6]

Draft NPDES General Permit Modification for Discharges From the Oil and Gas Extraction Point Source Category to Coastal Waters in Texas and Onshore Stripper Well Category East of The 98th Meridian (TXG330000)

AGENCY: Environmental Protection Agency (EPA).

ACTION: Notice; Proposal of NPDES general permit modification.

SUMMARY: EPA Region 6 today proposes modifications for the National Pollutant Discharge Elimination System (NPDES) general permit regulating discharges from oil and gas wells in the Coastal Subcategory in Texas and in the Stripper Subcategory which discharge into waters in Texas. These modifications would restore coverage eligibility for certain inland discharges that existed in the previous permit and require freshwater whole effluent toxicity species for discharges to freshwater receiving waters.

DATES: Comments must be received by January 16, 2014.

ADDRESSES: Comments should be sent to: Ms. Diane Smith (6WQ-NP), U.S. Environmental Protection Agency, Region 6, 1445 Ross Avenue, Dallas, Texas 75202-2733.

Comments may also be submitted via email to the following address: smith.diane@epa.gov

FOR FURTHER INFORMATION CONTACT: Ms. Diane Smith, Region 6, U.S. Environmental Protection Agency, 1445 Ross Avenue, Dallas, Texas 75202-2733. Telephone: (214) 665-2145.

A complete draft permit and a fact sheet more fully explaining the proposal may be obtained online from the Web site below or from Ms. Smith. In addition, the Agency's current administrative record on the proposal is available for examination at the Region's Dallas offices during normal working hours after providing Ms. Smith 24 hours advance notice. A copy of the proposed permit, fact sheet, and this Federal Register Notice may be found on the EPA Region 6 Web site at: http://www.epa.gov/region6/water/npdes/genpermit/index.htm.

SUPPLEMENTARY INFORMATION: This permit modification action proposes to clarify the coverage of discharges from stripper wells located east of the 98th meridian whose produced water comes from the Carrizo/Wilcox, Reklaw or Bartosh formations in Texas and whose produced water does not exceed 3000 mg/l total dissolved solids. The modification also adds WET testing requirements using freshwater species for produced waters which discharge to freshwater receiving waters. To determine whether your facility, company, business, organization, etc. is regulated by this action, you should carefully examine the applicability criteria in Part I, Section A.1 of this permit. If you have questions regarding the applicability of this action to a particular entity, consult the person listed in the preceding FOR FURTHER INFORMATION CONTACT section. (Note that previous permit was noticed in the Federal Register at 77 FR 47380 on August 8, 2012.)

Other Legal Requirements

A. State Certification

Under section 401(a)(1) of the CWA, EPA may not issue an NPDES permit until the State in which the discharge will occur grants or waives certification to ensure compliance with appropriate requirements of the CWA and State law. EPA will seek certification from the Railroad Commission of Texas prior to issuing a final permit.

B. Other Regulatory Requirements

When EPA issued the general permit in 2012, EPA had conducted evaluations required by Coastal Zone Management Act, National Environmental Policy Act, Endangered Species Act, Magnuson-Stevens Fishery Conservation and Management Act, Historic Preservation Act, Paperwork Reduction Act, and Regulatory Flexibility Act. The scope of Today's permit modification action does not trigger requirements for new evaluations for compliance with those regulatory requirements. These requirements were discussed in the fact sheet dated March 7, 2012, when EPA proposed the permit.

Dated: November 20, 2013.
William K. Honker,
Director, Water Quality Protection Division, EPA Region 6.

[FR Doc. 2013-28819 Filed 11-29-13; 8:45 am]

BILLING CODE 6560-50-P